ENVIRONMENTAL PROTECTION AGENCY

40 CFR Part 300

[EPA-HQ-SFUND-1992-0007; FRL-9997-23-Region 7]

National Oil and Hazardous Substances Pollution Contingency Plan; National Priorities List: Partial Deletion of the Cleburn Street Well Superfund Site

AGENCY: Environmental Protection Agency (EPA).

ACTION: Direct final rule.

SUMMARY: The Environmental Protection Agency (EPA) Region 7 is publishing a direct final Notice of Partial Deletion of the Cleburn Street Well Superfund Site (Site), located in Grand Island, Nebraska, from the National Priorities List (NPL) for of the Operable Unit (OU) 1 and OU4. This partial deletion pertains to OU1—Contaminated sub-surface soil at former One-Hour Martinizing (OHM) and OU4—Soil and Groundwater at Ideal Cleaners. The remaining OU2, OU3, and OU5 will remain on the NPL and are not being considered for deletion as part of this action. The NPL, promulgated pursuant to section 105 of the Comprehensive Environmental Response, Compensation, and Liability Act (CERCLA) of 1980, as amended, is an appendix of the National Oil and Hazardous Substances Pollution Contingency Plan (NCP). This direct final partial deletion is being published by EPA with the concurrence of the State of Nebraska, through the Nebraska Department of Environmental Quality (NDEQ); because EPA has determined that all appropriate response actions at these identified parcels under CERCLA have been completed. However, this partial deletion does not preclude future actions under Superfund, including Five Year Reviews.

DATES: This direct final partial deletion is effective September 27, 2019 unless EPA receives adverse comments by August 28, 2019. If adverse comments are received, the EPA will publish a timely withdrawal of the direct final partial deletion in the Federal Register informing the public that the partial deletion will not take effect.

ADDRESSES: Submit your comments, identified by Docket ID no. EPA-HQ-SFUND-1992-0007, by one of the following methods:

• http://www.regulations.gov. Follow the on-line instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

• Email: wennerstrom.david@epa.gov or houston.pamela@epa.gov.

• Mail: Environmental Protection Agency Region 7, 11201 Renner Boulevard, Lenexa, KS 66219. Attention: David Wennerstrom, SEMD Divison or Pam Houston, ECO Office.

• Hand delivery: Environmental Protection Agency Region 7, 11201 Renner Boulevard, Lenexa, KS 66219. Such deliveries are only accepted between 8:00 a.m. and 4:00 p.m. Monday through Friday, except Federal holidays. Special arrangements should be made for deliveries of boxed information.

Instructions: Direct your comments to Docket ID no. EPA-HQ-SFUND-1992-0007. The EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov website is an “anonymous access” system, which means the EPA will not know your identity or contact information unless you provide it in the body of your comment. If you send an email comment directly to EPA without going through http://www.regulations.gov, your email address will be automatically captured and included as part of the comment that is placed in the public docket and made available on the internet. If you submit an electronic comment, the EPA recommends that you include your name and other contact information in the body of your comment and with any disk or CD-ROM you submit. If the EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov, online at: https://www.epa.gov/superfund/cleburnstreetwell, or in hardcopy at EPA Region 7 Records Center, 11201 Renner Boulevard, Lenexa, KS 66219 between 8 a.m. to 4 p.m. Monday through Friday, excluding Federal holidays.

FOR FURTHER INFORMATION CONTACT: David Wennerstrom, Remedial Project Manager, U.S. Environmental Protection Agency, Region 7, 11201 Renner Blvd., Lenexa, KS 66219, (913) 551-7996, email: wennerstrom.david@epa.gov.

SUPPLEMENTARY INFORMATION:

Table of Contents

I. Introduction

II. NPL Deletion Criteria

III. Partial Deletion Procedures

IV. Basis for Partial Site Deletion

V. Partial Deletion Action

I. Introduction

EPA Region 7 is publishing this direct final Notice of Partial Deletion for the Cleburn Street Well Superfund Site, (Site), from the National Priorities List (NPL). This partial deletion pertains to the soil and subsurface soil at the One-Hour Martinizing facility (OHM) (OU1) and the soil and groundwater at Ideal Cleaners (OU4). The NPL constitutes appendix B of 40 CFR part 300 which is the National Oil and Hazardous Substances Pollution Contingency Plan (NCP), which the EPA promulgated pursuant to section 105 of the Comprehensive Environmental Response, Compensation and Liability Act (CERCLA) of 1980, as amended. The EPA maintains the NPL as the list of sites that appear to present a significant risk to public health, welfare, or the environment. Sites on the NPL may be the subject of remedial actions financed by the Hazardous Substance Superfund (Fund). This partial deletion of the Cleburn Street Well Superfund Site is proposed in accordance with 40 CFR 300.425(e) and is consistent with the Notice of Policy Change: Partial Deletion of Sites Listed on the National Priorities List. 60 FR 55466 (November 1, 1995). As described in 40 CFR 300.425(e)(3) of the NCP, a portion of a site deleted from the NPL remains eligible for Fund-financed remedial action if future conditions warrant such actions.

Section II of this document explains the criteria for deleting sites from the NPL. Section III discusses procedures that the EPA is using for this action. Section IV discusses OU1 and OU4 of the Cleburn Street Well Superfund Site and demonstrates how it meets the deletion criteria. Section V discusses EPA's action to partially delete the Site media and/or parcels from the NPL unless adverse comments are received during the public comment period.

II. NPL Deletion Criteria

The NCP establishes the criteria that the EPA uses to delete sites from the NPL. In accordance with 40 CFR 300.425(e), sites may be deleted from the NPL where no further response is appropriate. In making such a determination pursuant to 40 CFR 300.425(e), the EPA will consider, in consultation with the State, whether any of the following criteria have been met:

i. Responsible parties or other persons have implemented all appropriate response actions required

ii. All appropriate Fund-financed response under CERCLA has been implemented, and no further response action by responsible parties is appropriate; or

iii. The remedial investigation has shown that the release poses no significant threat to public health or the environment and, therefore, the taking of remedial measures is not appropriate.

Pursuant to CERCLA section 121(c) and the NCP, the EPA conducts five-year reviews to ensure the continued protectiveness of remedial actions where hazardous substances, pollutants, or contaminants remain at a site above levels that allow for unlimited use and unrestricted exposure. The EPA conducts such five-year reviews even if a site is deleted from the NPL. The EPA may initiate further action to ensure continued protectiveness at a deleted site if new information becomes available that indicates it is appropriate. Whenever there is a significant release from a site deleted from the NPL, the deleted site may be restored to the NPL without application of the hazard ranking system.

III. Partial Deletion Procedures

The following procedures apply to the deletion of OU1 and OU4 of the Site:

(1) The EPA has consulted with the State of Nebraska prior to developing this direct final Notice of Partial Deletion and the Notice of Intent for Partial Deletion published in the “Proposed Rules” section of this issue of the Federal Register.

(2) The EPA has provided the State 30 working days for review of this document and the parallel Notice of Intent for Partial Deletion prior to their publication in this issue of the Federal Register, and the State, through the NDEQ, has concurred on the partial deletion of the Site from the NPL.

(3) Concurrently with the publication of this direct final Notice of Partial Deletion, a notice of the availability of the parallel Notice of Intent for Partial Deletion is being published in a major local newspaper, The Grand Island Independent. The newspaper notice announces the 30-day public comment period concerning the Notice of Intent for Partial Deletion of the Site from the NPL.

(4) The EPA placed copies of documents supporting the partial deletion in the deletion docket and made these items available for public inspection and copying at the Site information repositories identified above.

(5) If adverse comments are received within the 30-day public comment period on this partial deletion action, the EPA will publish a timely notice of withdrawal of this direct final Notice of Partial Deletion before its effective date and will prepare a response to comments and continue with the deletion process on the basis of the Notice of Intent for Partial Deletion and the comments already received.

Deletion of a portion of a site from the NPL does not itself create, alter, or revoke any individual's rights or obligations. Deletion of a portion of a site from the NPL does not in any way alter EPA's right to take enforcement actions, as appropriate. The NPL is designed primarily for informational purposes and to assist EPA management. Section 300.425(e)(3) of the NCP states that the deletion of a site from the NPL does not preclude eligibility for further response actions, should future conditions warrant such actions.

IV. Basis for Partial Site Deletion

The following information provides the EPA's rationale for deleting OU1 and OU4 of the Cleburn Street Well Superfund Site from the NPL:

Site Background, Location, and History

The Cleburn Street Well Superfund Site (CERCLIS ID #NED981499312) is located within the urban setting of Grand Island, Nebraska. Grand Island's 2016 census reports a population of 51,517. The Site is situated in central Nebraska, approximately two miles north of the Wood River and approximately seven miles northeast of the Platte River. The Site encompasses a portion of the downtown area and is surrounded by a variety of light industries, commercial businesses and residential dwellings. Surface runoff is controlled by man-made features typically present in a city (storm sewers/gutters) and is eventually discharged into the Wood River.

The Cleburn Street Well Site consists of four distinct volatile organic compound (VOC) release areas located within the central portion of the City of Grand Island, Nebraska. Three of the source areas are locations of commercial dry-cleaning businesses: Former One-Hour Martinizing (OHM) (OUs 1 and 2), Ideal Cleaners (OU3), and former Liberty Cleaners (OU4). Ideal Cleaners is currently an operating business. The fourth release area is the location of the former Nebraska Solvent Distribution Company (OU5).

OU1 (former OHM) is located on a property which includes a structure with concrete slab on grade construction. The former OHM dry cleaner building is currently being used temporarily as commercial building space for a construction business. A used tire shop operates in an adjacent building. The immediate vicinity of the former OHM predominantly consists of commercial businesses; however, residential properties are also present.

OU4 (Liberty Cleaners) is an operating business located in a predominantly residential area.

Contamination at the Cleburn Street Well Site was first discovered in March 1986 when the Nebraska Department of Health detected tetrachloroethene (PCE) at the Cleburn Street public drinking water supply well. The EPA became involved in 1987 and conducted a preliminary assessment with subsequent site investigations resulting in the identification of four separate source areas: Three dry cleaning facilities—OHM, Liberty Cleaners, and Ideal Cleaners; and a former solvent distribution company (Nebraska Solvent Company). These source areas are all within an approximate 1,960 feet radius of the Cleburn Street well, which is located near the intersection of Cleburn Street and North Front Street.

The EPA follow-on investigations identified significant PCE and trichloroethene (TCE) contamination OU1 and OU4 locations. The release of hazardous substances resulted in the contamination above maximum contaminant levels (MCLs), of the aquifer providing potable water to the city of Grand Island. The MCL of both TCE and PCE is 5 parts per billion, as defined by the 1976 Safe Water Drinking Act. This necessitated the abandonment of the Cleburn Street public water supply well and subsequently the abandonment of both the Lincoln and Pine Street public supply wells, also located in the area.

The State of Nebraska has designated the aquifer impacted by the Cleburn Site as a Class GA Groundwater Supply. Class GA Groundwater is a groundwater supply which is currently being used as a public drinking water supply or is proposed to be used as a public drinking water supply. The contamination detected caused the State of Nebraska to designate the Site as a Remedial Action Class 1, requiring the “most extensive remedial action measures” to clean up and restore the groundwater to drinking water quality suitable for all beneficial uses.

Remedial Investigation and Human Health Assessments

The Site was proposed for the National Priorities List, or NPL, on July 29, 1991 (56 FR 21460) and listed as final on the NPL on October 14, 1992 (57 FR 47180). The remedial investigation was completed in May 1993 and the Feasibility Study was completed in July 1995.

The human health risk assessment completed in 1993 evaluated risk at OU1 and OU4. Current groundwater exposures are not likely because city residents have access to city water and are not known to be using private wells; and soil contamination is below ground and not accessible for direct contact exposures. Although residents are not believed to be currently exposed to contamination, the risk assessment evaluated several potential future exposure pathways. Future residents could be exposed to contaminated groundwater via ingestion, inhalation, and direct contact if private wells are installed and used in place of city water; and future development could also result in direct contact, ingestion, and inhalation exposures to contaminated soils.

The 1993 human health risk assessment determined that the carcinogenic risk associated with exposure to soil at the OU1 and OU4 source was low with an estimated excess cancer risk of 2x10⁻⁷.

A screening level ecological risk assessment was performed in 1998. It was determined that there were no ecological exposure pathways.

Remedial Action Objectives

The EPA composed the 1996 Record of Decision (ROD) to address soil and groundwater contamination at all three dry cleaner locations. Remedy selection was based on the following 1996 ROD Remedial Action Objectives, or RAOs:

The RAO for groundwater at OU4, defined in the 1996 ROD, is restoration of the shallow aquifer to its designated use as a drinking water source.

The general RAO for groundwater which provides for the protection of human health includes the prevention or minimization of ingestion of groundwater having a carcinogenic risk greater than 1x10⁻⁶ and/or a HI for noncarcinogens greater than 1. The specific remediation goals which would achieve this objective are the MCLs for PCE contamination. The RAO for groundwater which is protective of the environment involves the restoration of groundwater quality to below MCLs for all contaminants which have MCLs. The primary contamination of concern is PCE.

The following RAO for OU1 and OU4 soils is defined in the 1996 ROD:

The RAO for soil which is protective of human health includes the prevention or minimization of direct contact with soils having a carcinogenic risk greater than 1 x 10⁻⁶, and/or an HI for noncarcinogens greater than 1. The specific remediation goals which would achieve this objective have not been established. However, the agency's soil screening levels for PCE will be used as a guideline to determine the level of protectiveness achieved by the remedial action. The soil RAO also includes the prevention of migration of PCE contaminant from soil that would result in groundwater contamination in excess of the MCL with a site-specific cleanup level of 0.89 mg/kg.

Selected Remedy, Operations, and Results

Per the 1996 ROD, the following are the selected remedies for OU1 and OU4.

The selected remedies for OU1 (Soils at OHM) are:

—Institutional controls to restrict groundwater use and prevent exposures

—Extraction of subsurface contaminants using soil vapor extraction (SVE)

—Treatment of extracted vapors by carbon absorption

The selected remedies for OU4 (Ideal Cleaners) are:

—Natural attenuation and groundwater monitoring for ten years

—Institutional controls to restrict groundwater use and prevent exposures

—Contingency action of in situ treatment of source soil by SVE*

* The SVE system was not warranted or needed to achieve the clean-up goal at OU4, and the SVE contingency remedy ws not imlemented.

OU1

The remedial design for OU1 actions selected in the 1996 ROD were completed in September 1997, and the remedies were constructed and operating by October 1998. Following the first year of operation, on October 29, 1999, a joint inspection was conducted by the EPA and the NDEQ, and the remedies were determined to be operational and functional.

The OU1 SVE system was operated by NDEQ for a period of approximately four years between 1998 and 2002, and for an additional year from April 2005 through early 2006. In April 2006, NDEQ notified the EPA of its position that the OU1 remedy was complete because soil vapor concentrations had reached asymptotic levels and no further mass removal was being achieved by the SVE system. As a part of the 2007 Source Investigation for OU2, Groundwater at former One-Hour Martinizing, soil samples were collected from seven locations from within the footprint of the building in the vadose zone, less than 24 feet below ground surface. All soil samples exhibited PCE concentrations less than the site-specific cleanup level of 0.89 mg/kg. In a letter dated February 22, 2007, the EPA agreed with NDEQ that the OU1 remedy had achieved its intended purpose of addressing source soils. The 2012 ROD Amendment, which selected in-situ thermal remedial action for OU2, also summarized the soil clean-up at OU1, “The remediation goals for COC's detected in the shallow subsurface soils have been achieved by operation of the SVE system at the facility.”

OU4

The Remedial Design for OU4 was completed in June 1997. The remedial action for the natural attenuation remedy with monitoring included the installation of two downgradient monitoring wells and six quarterly monitoring events. The final RA Report for OU4 was approved on July 14, 1999. The remedy for OU4 was turned over to the State for O&M on September 10, 1999. Since 1999, NDEQ has sampled the monitoring wells at regular intervals. Nine of the last 11 groundwater sampling events for all OU4 wells have been non-detect and all groundwater monitoring wells have been under the MCL since the year 2001. After 2012, NDEQ management, with EPA concurrence, made the decision not to sample OU4 wells henceforth as there is no evidence of residual contamination.

Institutional Controls

Institutional controls at the Cleburn Well Superfund Site were implemented in February 1988 when the city of Grand Island passed Ordinance No. 8363, which restricts the use of groundwater pumped from within the Site and requires registration of new wells and adherence to permitting requirements within the Site.

Five-Year Review

Statutory five-year reviews are required at the Cleburn Street Well Superfund Site since hazardous substances remain at the Site above levels that allow for unlimited use and unrestricted exposure. Five-year reviews were completed for the Site in 2003, 2008, 2013, and 2018. For both OU1 and OU4, the remedy is protective of human health and the environment. There are no issues or recommendations for either OU1 or OU4. The next five-year review is scheduled for 2023.

Community Involvement

Throughout the process from development of the remedy to completion of the remedial activities, all phases of the Site remediation have been an extensive community involvement process with input from Federal and State regulators, the City of Grand Island, and members of the public. Over the life of the project, there were public comment periods and public meetings to ensure that the local residents were able to contribute to the process and express their opinions.

Public involvement has been included throughout the remediation process at this Site and has been memorialized in site documents including the Record of Decision, Proposed Plans, and EPA Five-Year Reviews. Public comments are also solicited during this partial deletion with a notice in the local newspaper, the Grand Island Independent.

Determination That the Criteria for Deletion Have Been Met

In accordance with 40 CFR 300.425(e), EPA Region 7 detemined the response at OU1 and OU4 of the Site (the subject of this deletion) meet the substantive criteria for deletion from the NPL. The EPA has consulted with and has the concurrence of the State of Nebraska. All responsible parties or other persons have implemented all appropriate response actions required. All appropriate Fund-financed response under CERCLA was implemented, and no further response action by responsible parties is appropriate.

The implemented remedies at OU1 and OU4 have achieved the degree of cleanup specified in the remedy decisions for all pathways of exposure. All selected remedial action objectives and associated cleanup levels are consistent with agency policy and guidance. No further Superfund response is needed to protect human health and the environment.

V. Partial Deletion Action

The EPA, with concurrence of the State of Nebraksa through the NDEQ, has determined that all appropriate response actions under CERCLA, have been completed. Therefore, the EPA is deleting OU1 and OU4 from the Cleburn Street Well Superfund Site from the NPL.

Because the EPA considers this action to be noncontroversial and routine, the EPA is taking it without prior publication. This action will be effective September 27, 2019 unless EPA receives adverse comments by August 28, 2019. If adverse comments are received within the 30-day public comment period, the EPA will publish a timely withdrawal of this direct final Notice of Partial Deletion before the effective date of the partial deletion and it will not take effect. The EPA will prepare a response to comments and continue with the deletion process on the basis of the notice of intent to partially delete and the comments already received. There will be no additional opportunity to comment.

List of Subjects in 40 CFR Part 300

Environmental protection, Air pollution control, Chemicals, Hazardous substances, Hazardous waste, Intergovernmental relations, Penalties, Reporting and recordkeeping requirements, Superfund, Water pollution control, Water supply.

Dated: July 17, 2019.
David Cozad,
Acting Regional Administrator, Region 7.

For the reasons set out in this document, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

2. Table 1 of appendix B to part 300 is amended by revising the listing under Nebraska for “Cleburn Street Well” to read as follows:

Appendix B to Part 300—National Priorities List

Table 1—General Superfund Section
State | Site name | City/county | Notes(a)
* * * * * * *
NE | Cleburn Street Well | Grand Island | P
* * * * * * *
(a) A = Based on issuance of health advisory by Agency for Toxic Substances and Disease Registry (if scored, HRS score need not be greater than or equal to 28.50).
* * * * * * *
P = Sites with partial deletion(s).

* * * * *

[FR Doc. 2019-15858 Filed 7-26-19; 8:45 am]

BILLING CODE 6560-50-P